POSTAL SERVICE

Transfer of Bound Printed Matter Parcels to Competitive Product List

AGENCY: Postal Service™.

ACTION: Notice.

SUMMARY: The Postal Service is providing notice that it has filed a request with the Postal Regulatory Commission to transfer Bound Printed Matter Parcels from the Market Dominant Product List to the Competitive Product List.

DATES: April 1, 2021.

FOR FURTHER INFORMATION CONTACT: Markes Lucius at (202) 268-6170 or Garry Rodriguez at (202) 268-7281.

SUPPLEMENTARY INFORMATION: On March 26, 2021, the United States Postal Service® filed with the Postal Regulatory Commission a request to transfer Bound Printed Matter Parcels from the Market Dominant Product List to the Competitive Product List, pursuant to 39 U.S.C. 3642. Documents pertinent to this request are available at http://www.prc.gov, Docket No. MC2021-78.

Ruth B. Stevenson,
Attorney, Federal Compliance.

[FR Doc. 2021-06650 Filed 3-31-21; 8:45 am]

BILLING CODE 7710-12-P